DEPARTMENT OF THE TREASURY

Submission for OMB Review; Comment Request

January 28, 2014

The Department of the Treasury will submit the following information collection requests to the Office of Management and Budget (OMB) for review and clearance in accordance with the Paperwork Reduction Act of 1995, Public Law 104-13, on or after the date of publication of this notice.

DATES: Comments should be received on or before March 3, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission(s) may be obtained by calling (202) 622-1295, emailing PRA@treasury.gov, or the entire information collection request may be found at www.reginfo.gov.

Internal Revenue Service (IRS)

OMB Number: 1545-0575.

Type of Review: Extension without change of a currently approved collection.

Title: Return of Excise Taxes Related to Employee Benefit Plans.

Form: Form 5330.

Abstract: Internal Revenue Code sections 4971, 4972, 4973(a)(3), 4975, 4976, 4977, 4978, 4978A, 4978B, 4979, 4979A and 4980 impose various excise taxes in connection with employee benefit plans. Form 5330 is used to compute and collect these taxes.

Affected Public: Businesses or other for-profits.

Estimated Annual Burden Hours: 540,145.

OMB Number: 1545-0715.

Type of Review: Revision of a currently approved collection.

Title: Proceeds From Broker and Barter Exchange Transactions.

Form: Form 1099-B.

Abstract: Form 1099-B is used by brokers and barter exchanges to report proceeds from transactions to the Internal Revenue Service. The form will be used by IRS to verify compliance with the reporting rules and to verify that the recipient has included the proper amount of income on his or her return.

Affected Public: Individuals or households; Businesses or other for-profits.

Estimated Annual Burden Hours: 49,396,988.

OMB Number: 1545-1601.

Type of Review: Extension without change of a currently approved collection.

Title: Revenue Procedure 98-32, EFTPS Programs for Reporting Agents.

Abstract: The Batch and Bulk Filer programs are used by filers for electronically submitting enrollments, federal tax deposits, and federal tax payments on behalf of multiple taxpayers. These programs are part of the Electronic Federal Tax Payment System (EFTPS).

Affected Public: Businesses or other for-profits.

Estimated Annual Burden Hours: 246,877.

OMB Number: 1545-1614.

Type of Review: Extension without change of a currently approved collection.

Title: REG-106177-97 (NPRM) Qualified State Tuition Programs.

Abstract: Respondents are states and eligible educational institutions that establish and maintain qualified state tuition programs. Respondents include distributees who receive benefits under the programs. Information verifies that programs are qualified and that distributions are used for qualified educational expenses.

Affected Public: Individuals or households; State, local, or tribal governments.

Estimated Annual Burden Hours: 4,258,260.

OMB Number: 1545-1616.

Type of Review: Extension without change of a currently approved collection.

Title: REG-115393-98 (Final) Roth IRAs.

Abstract: This collection of information contains regulations relating to Roth IRAs under section 408A of the Internal Revenue Code. The regulations provide guidance on establishing Roth IRAs, contributions to Roth IRAs, converting amounts to Roth IRAs, recharacterizing IRA contributions, Roth IRA distributions and Roth IRA reporting requirements.The regulations affect individuals establishing Roth IRAs, beneficiaries under Roth IRAs, and trustees, custodians or issuers of Roth IRAs.

Affected Public: Individuals or households; Businesses or other for-profits; and Not-for-profit institutions.

Estimated Annual Burden Hours: 125,000.

OMB Number: 1545-1623.

Type of Review: Extension without change of a currently approved collection.

Title: REG-246256-96 (Final) Excise Taxes on Excess Benefit Transactions.

Abstract: The rule affects organizations described in Internal Revenue Code section 501(c)(3) and (4) applicable tax-exempt organizations). The collection of information entails obtaining and relying on appropriate comparability data and documenting the basis of an organization's determination that compensation is reasonable, or a property transfer (or transfer of the right to use property) is at fair market value. These actions comprise two of the requirements specified in the legislative history for obtaining the rebuttable presumption of reasonableness.

Affected Public: Not-for-profit institutions.

Estimated Annual Burden Hours: 910,083.

OMB Number: 1545-1731.

Type of Review: Extension without change of a currently approved collection.

Title: Revenue Procedure 2001-37, Extraterritorial Income Exclusion Elections.

Abstract: A taxpayer that wants to revoke its election to be treated as a domestic corporation for all purposes of the Internal Revenue Code must file a revocation statement with the Internal Revenue Service. This revenue procedure provides guidance for implementing the elections (and revocation of such elections) established under the “FSC Repeal and Extraterritorial Income Exclusion Act of 2000.”

Affected Public: Businesses or other for-profits.

Estimated Annual Burden Hours: 19.

OMB Number: 1545-1751.

Type of Review: Extension without change of a currently approved collection.

Title: REG-107151-00 (TD 9035—Final) Constructive Transfers and Transfers of Property to a Third Party on Behalf of a Spouse.

Abstract: The regulation sets forth the required information that will permit spouses or former spouses to treat a redemption by a corporation of stock of one spouse or former spouse as a transfer of that stock to the other spouse or former spouse in exchange for the redemption proceeds and a redemption of the stock from the latter spouse or former spouse in exchange for the redemption proceeds.

Affected Public: Individuals or households; Businesses or other for-profits.

Estimated Annual Burden Hours: 500.

OMB Number: 1545-1899.

Type of Review: Extension without change of a currently approved collection.

Title: REG-138176-02 (Final) Timely Mailing Treated As Timely Filing.

Abstract: Section 7502(a) of the Internal Revenue Code provides that a document received after the due date for filing will be treated as filed on the date of the United States postmark on the envelope containing the document if the postmark date is on or before the date for filing the document and the document is placed in the U.S. mail on or before the due date. Under I.R.C. Sec. 7502, in order for taxpayers to establish the postmark date and prima facie evidence of delivery when using registered or certified mail to file documents with the IRS, taxpayers will need to retain the sender's receipt.

Affected Public: Individuals or households; Businesses or other for-profits; Not-for-profit institutions; Farms; Federal government; and State, local, or tribal governments.

Estimated Annual Burden Hours: 1,084,765.

OMB Number: 1545-1906.

Type of Review: Extension without change of a currently approved collection.

Title: REG-149524-03, LIFO Recapture Under Section 1363(d).

Abstract: This collection of information is required to inform the IRS of partnerships electing to increase the basis of inventory to reflect any amount included in a partner's income under section 1363(d).Section 1.1363-2(e)(ii) allows a partnership to elect to adjust the basis of its inventory to take account of LIFO recapture. Section 1.1363-2(e)(3) provides guidance on how to make this election.

Affected Public: Individuals or households; Businesses or other for-profits.

Estimated Annual Burden Hours: 200.

OMB Number: 1545-2061.

Type of Review: Extension without change of a currently approved collection.

Title: Supplemental Attachment to Schedule M-3.

Form: Form 8916-A.

Abstract: Form 8916-A provides a detailed schedule that reconciles the amount of the of cost of goods sold reported on Schedule M-3 for the Form 1120, Form 1065, or Form 1120-S. The authority is Internal Revenue Code section 6011 (P.L. 105-206, Title II, Sections 2001 through 2005).

Affected Public: Businesses or other for-profits.

Estimated Annual Burden Hours: 5,049,720.

OMB Number: 1545-2065.

Type of Review: Extension without change of a currently approved collection.

Title: Notice of Qualified Equity Investment for New Markets Credit.

Form: Form 8874-A.

Abstract: Internal Revenue Code sections 6109 and 6103 code section 45N. Section 45N was added by section 405 of the Tax Relief and Health Care Act of 2006. Form 8874-A provides a means for the qualified mining company to compute and claim the credit.

Affected Public: Individuals or households; Businesses or other for-profits.

Estimated Annual Burden Hours: 2,715.

OMB Number: 1545-2067.

Type of Review: Extension without change of a currently approved collection.

Title: Mine Rescue Team Training Credit.

Form: Form 8923.

Abstract: Form 8923, Mine Rescue Team Training Credit, provides a means for the qualified mining company to compute and claim the credit.

Affected Public: Businesses or other for-profits.

Estimated Annual Burden Hours: 292.

OMB Number: 1545-2068.

Type of Review: Extension without change of a currently approved collection.

Title: TD 9340 (Final) Revised Regulations Concerning Section 403(b) Tax-Sheltered Annuity Contracts.

Abstract: The collection of information in the regulations is in final regulations under section 403(b) of the Internal Revenue Code and under related provisions of sections 402(b), 402(g), 402A, and 414(c). The regulations provide updated guidance on section 403(b) contracts of public schools and tax-exempt organizations described in section 501(c)(3). Such information exchange is necessary to ensure compliance with tax law requirements relating to loans and hardship distributions from section 403(b) plans and sponsors of section 403(b) contracts, administrators, participants, and beneficiaries.

Affected Public: Individuals or households; Not-for-profit institutions; and State, local, or tribal governments.

Estimated Annual Burden Hours: 45,000.

OMB Number: 1545-2169.

Type of Review: Extension without change of a currently approved collection.

Title: Notice 2010-30/Notice 2012-41—Transitional Guidance for Taxpayers Claiming Relief Under the Military Spouses Residency Relief Act for Taxable Year 2009 and subsequent years.

Abstract: On April 15, 2010, the Department of the Treasury and the IRS published Notice 2010-30, 2010-18 I.R.B. 650, which provides relief and procedures for certain taxpayers who are spouses (civilian spouses) of active duty members of the uniformed services (servicemembers). The relief and procedures were made available to civilian spouses who (A) accompany their servicemember spouses to a military duty station in American Samoa, Guam, the Northern Mariana Islands (NMI), Puerto Rico, or the U.S. Virgin Islands (USVI) (each a “U.S. territory”) and claim residence or domicile (tax residence) in one of the 50 States or the District of Columbia under the Military Spouses Residency Relief Act (MSRRA) or (B) accompany their servicemember spouses to a military duty station in one of the 50 States or the District of Columbia and claim tax residence in a U.S. territory under MSRRA. The relief and procedures set forth in Notice 2010-30 were initially available for the taxable year 2009.

On June 7, 2012, the Treasury Department and the IRS published Notice 2012-41, which extended the relief and procedures announced in Notice 2010-30 to the subsequent taxable years. This notice further extends the relief set forth in Notice 2010-30 for civilian spouses described in the prior paragraph to taxable years beginning after November 11, 2010 and subsequent calendar years, and provides that such civilian spouses should follow the applicable procedures described in Notice 2010-30.

Affected Public: Individuals or households.

Estimated Annual Burden Hours: 6,200.

OMB Number: 1545-2173.

Type of Review: Extension without change of a currently approved collection.

Title: Hiring Incentives to Restore Employment (HIRE) Act Employee Affidavit.

Form: Form W-11.

Abstract: This form was created in response to the Hiring Incentives to Restore Employment (HIRE) Act, which was signed on March 18, 2010. The form was developed as a template for the convenience of employers who must collect affidavits from qualifying employees. The form is not filed; rather, an employer must retain the affidavit in order to justify claiming certain HIRE Act benefits. A model form is needed as soon as possible so that employers can begin confidently claiming payroll exemptions. The useful life of the form is only from March 18, 2010 to December 31, 2010.

Affected Public: Businesses or other for-profits.

Estimated Annual Burden Hours: 227,000.

OMB Number: 1545-2174.

Type of Review: Extension without change of a currently approved collection.

Title: Form 14134, Application for Certificate of Subordination of Federal Tax Lien, and Form 14135, Application for Certificate of Discharge of Property from Federal Tax Lien.

Form: Form 14134, Form 14135.

Abstract: The collection of information is required by 26 CFR 301.6325-1(b)(5) for consideration of the United States discharging property from the federal tax lien and is required by 26 CFR 301.6325-1(d)(4) for consideration that the United States subordinate its interest in property. These forms will provide guidance to ensure proper documentation is submitted to the IRS.

Affected Public: Individuals or households; Businesses or other for-profits; Not-for-profit institutions; Farms; Federal government; and State, local, or tribal governments.

Estimated Annual Burden Hours: 22,665.

OMB Number: 1545-2175.

Type of Review: Extension without change of a currently approved collection.

Title: Form 8942—Application for Certification of Qualified Investments Eligible for Credits; Notice 2010-45—Qualifying Therapeutic Discovery Project Credit.

Form: Form 8942.

Abstract: On March 23, 2010, the President signed the Patient Protection and Affordable Care Act (Act) (Pub. L. 111-148). Section 9023(a) of the Act adds section 48D to the Internal Revenue Code. Section 48D provides a 50-percent nonrefundable investment tax credit, and corresponding grant in lieu of a tax credit, for qualified investments in qualifying therapeutic discovery projects. The credit and grant are designed to encourage investments in new therapies relating to diseases. Form 8942 will be used to apply for certification and credit.

Affected Public: Businesses or other for-profits.

Estimated Annual Burden Hours: 14,545.

Brenda Simms,
Treasury PRA Clearance Officer.

[FR Doc. 2014-02025 Filed 1-30-14; 8:45 am]

BILLING CODE 4830-01-P